NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research (DMR)—Site Visit review of a Materials Innovation Platform on Automating the Synthesis of Rationally Designed Glycomaterials (GlycoMIP) (#1203)

Date and Time: October 26, 2023; 8 a.m.-6 p.m.; October 27, 2023; 8 a.m.-4 p.m.

Place: Complex Carbohydrate Research Center, University of Georgia, 315 Riverbend Road, Athens, GA 30602.

Type of Meeting: Part open.

Contact Person: Z. Charles Ying, Program Director, Division of Materials Research, National Science Foundation, 2415 Eisenhower Avenue, Alexandria, VA 22314; Telephone (703) 292-8428.

Purpose of Meeting: Site visit to provide advice and recommendations concerning further support of the GlycoMIP at Virginia Polytechnic Institute and State University and the University of Georgia.

Agenda

Thursday, October 26, 2023

8 a.m.-8:30 a.m. Executive Session (Closed)

8:30 a.m.-11:45 a.m. Review of GlycoMIP (Open)

11:45 a.m.-2 p.m. Executive Session (Closed)

2 p.m.-3:45 p.m. Review of GlycoMIP (Open)

3:45 p.m.-6 p.m. Executive Session (Closed)

Friday, October 27, 2023

8 a.m.-4 p.m. Executive Session (Closed)

Reason for Closing: Topics to be discussed and evaluated during closed portions of the site review will include information of a proprietary or confidential nature, including technical information; and information on personnel. These matters are exempt under 5 U.S.C. 552b(c), (4) and (6) of the Government in the Sunshine Act.

Dated: September 21, 2023.
Crystal Robinson,
Committee Management Officer.

[FR Doc. 2023-20944 Filed 9-26-23; 8:45 am]

BILLING CODE 7555-01-P